FEDERAL COMMUNICATIONS COMMISSION

[OMB 3060-0228; FR ID 228577]

Information Collection Being Submitted for Review and Approval to Office of Management and Budget

AGENCY: Federal Communications Commission.

ACTION: Notice and request for comments.

SUMMARY: As part of its continuing effort to reduce paperwork burdens, as required by the Paperwork Reduction Act (PRA) of 1995, the Federal Communications Commission (FCC or the Commission) invites the general public and other Federal Agencies to take this opportunity to comment on the following information collection. Pursuant to the Small Business Paperwork Relief Act of 2002, the FCC seeks specific comment on how it might “further reduce the information collection burden for small business concerns with fewer than 25 employees.”

DATES: Written comments and recommendations for the proposed information collection should be submitted on or before July 31, 2024.

ADDRESSES: Comments should be sent to www.reginfo.gov/public/do/PRAMain. Find this particular information collection by selecting “Currently under 30-day Review—Open for Public Comments” or by using the search function. Your comment must be submitted into www.reginfo.gov per the above instructions for it to be considered. In addition to submitting in www.reginfo.gov also send a copy of your comment on the proposed information collection to Cathy Williams, FCC, via email to PRA@fcc.gov and to Cathy.Williams@fcc.gov. Include in the comments the OMB control number as shown in the SUPPLEMENTARY INFORMATION below.

FOR FURTHER INFORMATION CONTACT: For additional information or copies of the information collection, contact Cathy Williams at (202) 418-2918. To view a copy of this information collection request (ICR) submitted to OMB: (1) go to the web page http://www.reginfo.gov/public/do/PRAMain, (2) look for the section of the web page called “Currently Under Review,” (3) click on the downward-pointing arrow in the “Select Agency” box below the “Currently Under Review” heading, (4) select “Federal Communications Commission” from the list of agencies presented in the “Select Agency” box, (5) click the “Submit” button to the right of the “Select Agency” box, (6) when the list of FCC ICRs currently under review appears, look for the Title of this ICR and then click on the ICR Reference Number. A copy of the FCC submission to OMB will be displayed.

SUPPLEMENTARY INFORMATION: The Commission may not conduct or sponsor a collection of information unless it displays a currently valid Office of Management and Budget (OMB) control number. No person shall be subject to any penalty for failing to comply with a collection of information subject to the PRA that does not display a valid OMB control number.

As part of its continuing effort to reduce paperwork burdens, as required by the Paperwork Reduction Act (PRA) of 1995 (44 U.S.C. 3501-3520), the FCC invited the general public and other Federal Agencies to take this opportunity to comment on the following information collection. Comments are requested concerning: (a) Whether the proposed collection of information is necessary for the proper performance of the functions of the Commission, including whether the information shall have practical utility; (b) the accuracy of the Commission's burden estimates; (c) ways to enhance the quality, utility, and clarity of the information collected; and (d) ways to minimize the burden of the collection of information on the respondents, including the use of automated collection techniques or other forms of information technology. Pursuant to the Small Business Paperwork Relief Act of 2002, Public Law 107-198, see 44 U.S.C. 3506(c)(4), the FCC seeks specific comment on how it might “further reduce the information collection burden for small business concerns with fewer than 25 employees.”

OMB Control No.: 3060-0228.

Title: Section 80.59, Compulsory Ship Inspections and Ship Inspection Certificates, FCC Forms 806, 824, 827, and 829.

Form No.: FCC Forms 806, 824, 827, and 829.

Type of Review: Revision of a currently approved collection.

Respondents: Business or other for profit, not-for-profit institutions, and State, local, or tribal government.

Number of Respondents and Responses: 10,150 respondents and 15,175 responses.

Estimated Time per Response: The actual inspection will take approximately 4 hours to complete. An FCC ship safety certificate will take approximately 0.083 hours (5 minutes) to complete. Providing an entry in the ship's log will take an inspector and ship operator/owner approximately 0.25 hours (15 minutes) each to complete. These estimates are based on FCC staff's knowledge and familiarity with the availability of the data required. Approximately 100 requests for a waiver of the required annual inspection are received each year from the licensees of large oceangoing vessels returning from a foreign port; it is estimated than an engineer or communications specialists would spend two hours preparing such a waiver request. Therefore, the range for completing the information collection requirements is 0.083 hours-4 hours.

Frequency of Response: On occasion, annual, and every five-year reporting requirements, recordkeeping requirement, and third party disclosure requirement.

Obligation to Respond: Required for regulatory or compliance. The statutory authority for this collection 47 U.S.C. 154, 303, 307(e), 309 and 332, unless noted.

Total Annual Burden: 23,229 hours.

Annual Cost Burden: No cost.

Needs and Uses: The requirements contained in § 80.59 are necessary to implement the provisions of section 362(b) of the Communications Act of 1934, as amended, which require the Commission to inspect the radio installation of large cargo ships and certain passenger ships at least once a year to ensure that the radio installation is in compliance with the Communications Act.

Additionally, section 385 of the Communications Act requires the inspection of small passenger ships at least once every five years, and Subpart T of Part 80 of the Commission's rules requires the inspection of certain vessels operating in the Great Lakes at least once every 48 months.

The Safety Convention—an international treaty (to which the United States (U.S.) is a signatory)—also requires an annual inspection. The Safety Convention permits an Administrator to entrust the inspections to either surveyors nominated for the purpose or to organizations recognized by it. Therefore, the U.S. can have other parties conduct the radio inspection of vessels for compliance with the Safety Convention.

The Commission allows FCC-licensed technicians to conduct these inspections. FCC-licensed technicians not only certify that the ship passed an inspection, but also issue a safety certificate. These safety certificates (FCC Forms 806, 824, 827, and 829) indicate that the vessel complies with the Communications Act, the Commission's rules, and the Safety Convention. These technicians are required to provide a summary of the results of the inspection in the ship's log. In addition, the vessel's owner, operator, or ship's master must certify in the ship's log that the inspection was satisfactory. Inspection certificates issued in accordance with the Safety Convention must be posted in a prominent and accessible place on the ship.

Further, § 80.59(d) states that the Commission may, upon a finding that the public interest would be served, grant a waiver of the annual inspection required by section 362(b) of the Communications Act, for a period of not more than 90 days for the sole purpose of enabling a U.S. vessel to complete its voyage and proceed to a port in the U.S. when an inspection can be held. An information application must be submitted by a ship's owner, operator, or authorized agent. The application must be electronically submitted to the FCC Headquarters (via email to Ghassan.Khalek@fcc.gov, Katie.Knox@fcc.gov, Kathleen.Curameng@fcc.gov, and Thomas.Derenge@fcc.gov) at least three days before the ship's arrival. The application must provide specific information that is contained in § 80.59. The forms to be completed are FCC Forms 806, 824, 827, and 829.

The Commission seeks revision of this OMB control number due to recent amendments to the Safety Convention by way of Resolution Marine Safety Committee (MSC) 496(105) that was adopted on April 28, 2022; as a result of SOLAS revisions of its Passenger Ship Safety Certificate and Cargo Ship Radio certificates, FCC Forms 806 and 829 are being revised accordingly. Regarding the remaining forms associated with this OMB control number, FCC Forms 824 and 827 will undergo technical amendments for non-substantive edits.

Federal Communications Commission.
Marlene Dortch,
Secretary, Office of the Secretary.

[FR Doc. 2024-14479 Filed 6-28-24; 8:45 am]

BILLING CODE 6712-01-P